DEPARTMENT OF AGRICULTURE

Forest Service

Intergovernmental Advisory Committee Meeting

AGENCY: Forest Service, USDA.

ACTION: Notice of meeting.

SUMMARY: The Intergovernmental Advisory Committee (IAC) will meet on November 1, 2001, at the Embassy Suites, 319 SW. Pine Street, Portland, Oregon 97204, in the Gevertz Ceremonial Room on the Mezzanine Level. The purpose of the meeting is to continue discussions on the implementation of the Northwest Forest Plan (NFP). The meeting will begin at 9:30 a.m. and continue until 4 p.m. The present agenda, which is subject to change, calls for discussion of the following items, among others: Implementation Monitoring; thinning dense, young tree stands in Late-Successional Reserves to achieve ecological objectives; the process for Regional Interagency Executive Committee/Regional Ecosystem Office review of modifications to NFP Standards & Guidelines or Land Allocations; and the 2001 Survey & Manage Annual Species Review. The meeting will be open to the public and is fully accessible for people with disabilities. Interpreters are available upon request no less than 2 weeks in advance. Written comments may be submitted for the record at the meeting. Time will also be scheduled for oral public comments. Interested persons are encouraged to attend.

FOR FURTHER INFORMATION CONTACT: Questions regarding this meeting may be directed to Steve Odell, Executive Director, Regional Ecosystem Office, 333 SW 1st Avenue, P.O. Box 3623, Portland, OR 97208 (Phone: 503-808-2166).

Dated: October 3, 2001.
Stephen J. Odell,
Designated Federal Official.

[FR Doc. 01-25950 Filed 10-15-01; 8:45 am]

BILLING CODE 3410-11-M